DEPARTMENT OF ENERGY

10 CFR Parts 429 and 431

[Docket No. EERE-2013-BT-TP-0055]

RIN 1905-AD50

Energy Conservation Program: Test Procedure for Pumps; Correction

AGENCY: Office of Energy Efficiency and Renewable Energy, Department of Energy.

ACTION: Notice of proposed rulemaking and public meeting; correction.

SUMMARY: On April 1, 2015, the U.S. Department of Energy (DOE) published in the Federal Register a notice of proposed rulemaking and public meeting for Energy Conservation Program: Test Procedure for Pumps. This document corrects terms in four equations.

DATES: April 24, 2015.

FOR FURTHER INFORMATION CONTACT: Ashley Armstrong, U.S. Department of Energy, Office of Energy Efficiency and Renewable Energy, Building Technologies Office, EE-5B, 1000 Independence Avenue SW., Washington, DC 20585-0121. Telephone: (202) 586-6590. Email: ashley.armstrong@ee.doe.gov.

Corrections

In the Federal Register published on April 1, 2015, in FR Doc. 2015-06945, make the following corrections:

1. On page 17604: Equation (6) is corrected by removing “13.46” and adding in its place “17.80”. The corrected equation reads as follows:

Appendix A to Subpart Y of Part 431—Uniform Test Method for the Measurement of Energy Consumption of Pumps. [Corrected]

2. On page 17645: The equation in section II.B.1.1.1 is corrected by removing “13.46” and adding in its place “17.80”. The corrected equation reads as follows:

ηpump,STD = −0.85 * In(Q100%%)² − 0.38 * In(NS) * In(Q100%%) − 11.48 * In(NS)² + 17.80 * In(Q100%%) + 179.80 * In(NS) − (C − 555.6)

3. On page 17646: The equation in section III.D.1.2.1 is corrected by removing “MotorH” and adding in its place “MotorHP”. The corrected equation reads as follows:

4. On page 17648: The equation in section V.D.1.2.1 is corrected by removing “MotorHPMotorH” and adding in its place “MotorHP”. The corrected equation reads as follows:

Issued in Washington, DC, on April 20, 2015.
Kathleen B. Hogan,
Deputy Assistant Secretary for Energy Efficiency, Energy Efficiency and Renewable Energy.

[FR Doc. 2015-09566 Filed 4-23-15; 8:45 am]

BILLING CODE 6450-01-P